DEPARTMENT OF ENERGY

Federal Energy Regulatory Commission

Combined Notice of Filings #2

Take notice that the Commission received the following electric rate filings:

Docket Numbers: ER16-2590-001.

Applicants: Midcontinent Independent System Operator, Inc.

Description: Tariff Amendment: 2016-10-04_Errata to filing to revise Coordination Agr between MISO and IESO to be effective 7/22/2016.

Filed Date: 10/4/16.

Accession Number: 20161004-5128.

Comments Due: 5 p.m. ET 10/25/16.

Docket Numbers: ER17-13-000.

Applicants: PacifiCorp.

Description: § 205(d) Rate Filing: BPA NITSA (CEC Load) to be effective 10/1/2016.

Filed Date: 10/4/16.

Accession Number: 20161004-5076.

Comments Due: 5 p.m. ET 10/25/16.

Docket Numbers: ER17-14-000.

Applicants: Big Turtle Wind Farm, LLC.

Description: § 205(d) Rate Filing: Certificate of Concurrence Filing to be effective 9/20/2016.

Filed Date: 10/4/16.

Accession Number: 20161004-5099.

Comments Due: 5 p.m. ET 10/25/16.

Docket Numbers: ER17-15-000.

Applicants: Midcontinent Independent System Operator, Inc.

Description: § 205(d) Rate Filing: 2016-10-04_3rd Quarter MISO Tariff Clean-Up Filing to be effective 10/5/2016.

Filed Date: 10/4/16.

Accession Number: 20161004-5101.

Comments Due: 5 p.m. ET 10/25/16.

Take notice that the Commission received the following PURPA 210(m)(3) filings:

Docket Numbers: QM17-1-000.

Applicants: NorthWestern Corporation (South Dakota).

Description: Application to Terminate Mandatory PURPA Purchase Obligation in the Southwest Power Pool, Inc. of NorthWestern Corporation (South Dakota).

Filed Date: 10/4/16.

Accession Number: 20161004-5044.

Comments Due: 5 p.m. ET 11/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2016.
Nathaniel J. Davis, Sr.,
Deputy Secretary.

[FR Doc. 2016-24550 Filed 10-11-16; 8:45 am]

BILLING CODE 6717-01-P